NATIONAL SCIENCE FOUNDATION

Advisory Committee for Geosciences; Notice of Meeting

In accordance with the Federal Advisory Committee Act (Pub. L. 92-463, as amended), the National Science Foundation announces the following meeting:

Name: Advisory Committee for Geosciences (1755).

Dates/Times: November 6, 2000; 8:30 a.m.-5:30 p.m.; November 7, 2000; 8 a.m.-4 p.m.

Place: National Science Foundation, 4201 Wilson Blvd., Room 375, Arlington, VA.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda

Day 1: Report from Advisory Committee Chairs meeting, Mathematical Sciences Initiative, Nanotechnology Initiative.

Day 2: GEO Education, Human Resources and Diversity, Divisional Subcommittee Meetings, GPRA.

Dated: October 10, 2000.
Karen J. York,
Committee Management Officer.

[FR Doc. 00-26325 Filed 10-12-00; 8:45 am]

BILLING CODE 7555-01-M